DEPARTMENT OF COMMERCE

International Trade Administration

AGENCY: International Trade Administration, U.S. Department of Commerce.

ACTION: Notice of invitation to energy industry event—Norwegian offshore opportunities forum.

Date: March 3, 2005.

Time: 8 a.m.

Location: The Houstonian Hotel, Houston, Texas.

SUMMARY: As part of the U.S.-Norway Oil and Gas Industry Summit in Houston, the Royal Norwegian Ministry of Petroleum and Energy and the U.S. Department of Commerce are pleased to invite you, or a representative you designate from your company, to a breakfast briefing on opportunities on the Norwegian Continental Shelf (NCS). The briefing will provide offshore exploration and production companies with an overview of the resource potential and the framework conditions on the NCS.

Although Norway is the third largest oil exporter in the world, only about ¼ of the total estimated petroleum resources on the NCS have been produced. With the large quantities of petroleum that remain to be discovered, the NCS offers a variety of oil and gas opportunities in both established and frontier basins. Norway also has a well established and competitive petroleum industry, predictable and transparent framework conditions, and an approachable and skilled public administration.

8 a.m.—Breakfast.

8:15 a.m.—Welcome and Opening Remarks.

Ms. Thorild Widvey, Norwegian Minister of Petroleum and Energy Official from the U.S. Department of Commerce.

8:30 a.m.—The Resource Potential on the NCS.

Ms. Bente Nyland, Director, Norwegian Petroleum Directorate.

8:45 a.m.—The Framework Conditions on the NCS.

Mr. Gunnar Gjerde, Director General, Norwegian Ministry of Petroleum and Energy.

9:15 a.m.—Experiences of a U.S. Entrant to the NCS.

Steven B. Hinchman, Senior Vice President of Worldwide Production, Marathon Oil Corporation.

9:35 a.m.—Question and Answer Period.

9:55 a.m.—Closing Remarks.

Official from the U.S. Department of Commerce.

10 a.m.—Adjourn.

Please RSVP by February 18, 2005 to Patterson Brown, U.S. Department of Commerce, 202/482.4950, 202/482.0170 (fax), or pbrown@ita.doc.gov; or to Erik Just Olsen, Norwegian Ministry of Petroleum and Energy, +47 22 24 61 94 or erik-just.olsen@oed.dep.no.

Dated: January 6, 2004.
Patterson W. Brown,
International Trade Specialist, Office of Energy and Environmental Industries.

[FR Doc. E5-71 Filed 1-11-05; 8:45 am]

BILLING CODE 3510-DR-P